DEPARTMENT OF HEALTH AND HUMAN SERVICES

Centers for Disease Control and Prevention

Lead Exposure and Prevention Advisory Committee (LEPAC); Notice of Charter Renewal

AGENCY: Centers for Disease Control and Prevention (CDC), Department of Health and Human Services (HHS).

ACTION: Notice of charter renewal.

SUMMARY: This gives notice under the Federal Advisory Committee Act of October 6, 1972, that the Lead Exposure and Prevention Advisory Committee (LEPAC), Centers for Disease Control and Prevention, Department of Health and Human Services, has been renewed for a 2-year period through January 17, 2026.

FOR FURTHER INFORMATION CONTACT: Paul Allwood, Ph.D., MPH, Designated Federal Officer, National Center for Environmental Health, Centers for Disease Control and Prevention, Department of Health and Human Services, 1600 Clifton Road NE, MS S106-5, Atlanta, Georgia 30329-4018. Telephone (770) 488-6774; PAllwood@cdc.gov.

SUPPLEMENTARY INFORMATION: CDC is providing notice under 5 U.S.C. 1001-1014 of the renewal of the charter of the Lead Exposure and Prevention Advisory Committee, Centers for Disease Control and Prevention, Department of Health and Human Services. This charter has been renewed for a two-year period through January 17, 2026.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-02179 Filed 2-2-24; 8:45 am]

BILLING CODE 4163-18-P